DEPARTMENT OF DEFENSE

Department of the Army

Privacy Act of 1974; System of Records

AGENCY: Department of the Army, DoD.

ACTION: Notice to Amend Systems of Records.

SUMMARY: The Department of the Army is amending a system of records notice in its existing inventory of record systems subject to the Privacy Act of 1974, (5 U.S.C. 552a), as amended.

DATES: This proposed action will be effective without further notice on April 12, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 5, 2001.
L.M. Bynum,
Alternate OSD Federal Register Liaison Officer, Department of Defense.

A0621-1 TAPC

System name:

Civilian Schooling for Military Personnel (February 22, 1993, 58 FR 10002).

Changes:

* * * * *

Categories of individuals covered by the system:

Delete entry and replace with ‘Any Active Duty Army, Army National Guard and Army reserve member who applies for and is selected or attendance at a civilian school or training with industry, or participation in a fellowship/scholarship of training or instruction.’

Categories of records in the system:

Delete entry and replace with ‘Name, grade, Social Security Number, address, home phone, duty phone, permanent legal address, branch of service, date of birth, marital status, number of dependents, Application for Detail as Student in a Civilian Educational Institution and Report of Training to Agency, state of legal residence, military occupational specialties, enlistment status, component, foreign service, civilian educational data, military educational data, transcripts, social fraternities, honorary fraternities, clubs, degree major, class standing and personal resumes, school contracts; student training report; photographs; enlisted qualification record; theses; statements of service and school obligation.’

Authority for maintenance of the system:

Delete entry and replace with ‘10 U.S.C. 3013, Secretary of the Army; 10 U.S.C. 4301, Members of Army: Detail as Students, Observers and Investigators at Educational Institutions, Industrial Plants, and Hospitals; Army Regulation 621-1, Training of Military Personnel at Civilian Institutions and E.O. 9397 (SSN).’

Purpose(s):

Delete ‘pursuant to 10 U.S.C. 4301’.

Storage:

Delete entry and replace with ‘Paper records in file folders, microfilm and electronic storage media.’

Retrievability:

Add to entry ‘Social Security Number, and other numerous data elements.’

Safeguards:

Delete entry and replace with ‘Records are maintained in areas accessible only to authorized personnel and only in the performance of assigned duties. Use of automated systems require user identification and passwords granted to authorized personnel responsible for the administration and processing of individual student data.’

Retention and disposal:

Change to read:

Offices having Army-wide responsibility: Documents on the development and supervision of civilian schooling for military personnel and annual review of the Army's Civilian Education Program records maintain as permanent; all other records in this category maintain and destroy after 15 years. Training agencies: Maintain records for 15 years then destroy. United States Military Academy: Paper originals destroy after verification that information has been transferred to microfilm. Maintain microfilm as permanent. For all other activities and offices maintain records for two years then destroy.

A0621-1 TAPC

System name:

Civilian Schooling for Military Personnel.

System location:

U.S. Total Army Personnel Command, Chief, Civilian Education, 200 Stovall Street, Alexandria, VA 22332-0400. Segments exist at Army commands/installations, organizations/activities, including overseas areas. Official mailing addresses are published as an appendix to the Army's compilation of record systems notices.

Categories of individuals covered by the system:

Any Active Duty Army, Army National Guard and Army Reserve member who applies for or is selected for attendance at civilian school or for training with industry, or participation in a fellowship/scholarship program of training or instruction.

Categories of records in the system:

File contains Department of the Army Forms 1618-R, Application for Detail as Student Officer in a Civilian Educational Institution of Training with Industry Program; 2593-R, Application for Selection for Scientific and Engineering Graduate School; and 3719-R, Information Questionnaire for Recipients of Top Five Percent Army Fellowship (ROTC and U.S.MA), containing name, grade, Social Security Number, address, home phone, duty phone, permanent legal address, branch of service, date of birth, marital status, number of dependents, state of legal residence, military occupational specialities, enlistment status, component, foreign service, civilian educational data, military educational data, transcripts, social fraternities, honorary fraternities, clubs, degree major, class standing and personal resumes, school contracts; student training report; photographs; enlisted qualification record; theses; statements of service and schooling obligation; U.S. Armed Forces Institute test report; civilian institution academic evaluation reports, Standard Form 1034, Public Voucher for Purchases and Services Other Than Personal, similar relevant documents and correspondence.

Authority for maintenance of the system:

5 U.S.C. 301, Departmental Regulations; 10 U.S.C. 4301; and E.O. 9397 (SSN).

Purpose(s):

To document, monitor, manage, and administer the service member's attendance at a civilian training agency or civilian school.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders, microfilm and electronic storage media.

Retrievability:

By individual's name, Social Security Number, and other numerous data elements.

Safeguards:

Records are maintained in areas accessible only to authorized personnel and only in the performance of assigned duties. Use of automated systems require user identification and passwords granted to authorized personnel responsible for the administration and processing of individual student data.

Retention and disposal:

Destroyed by shredding after 2 years.

System manager(s) and addresses:

Commander, U.S. Total Army Personnel Command, Chief, Civilian Education, 200 Stovall Street, Alexandria, VA 22332-0400.

Notification procedure:

Individuals seeking to determine if information about themselves is contained in this record system should address written inquiries to the Commander, U.S. Total Army Personnel Command, 200 Stovall Street, Alexandria, VA 22332-0411.

Individual should provide the full name, Social Security Number, current address and telephone number, sufficient details concerning the civilian school attended to permit locating the record, and signature.

Record access procedures:

Individuals seeking access to records about themselves contained in this record system should address written inquiries to the Commander, U.S. Total Army Personnel Command, 200 Stovall Street, Alexandria, VA 22332-0411.

Individual should provide the full name, Social Security Number, current address and telephone number, sufficient details concerning the civilian school attended to permit locating the record, and signature.

Contesting record procedures:

The Army's rules for accessing records, and for contesting contents and appealing initial agency determinations are contained in Army Regulation 340-21; 32 CFR part 505; or may be obtained from the system manager.

Record source categories:

From the individual, Army records and reports, documents from the civilian school or industry training agency.

Exemptions claimed for the system:

None.

[FR Doc. 01-6133 Filed 3-12-01; 8:45 am]

BILLING CODE 5001-10-M